DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending June 30, 2012. For purposes of this listing, long-term residents, as defined in section 877(e)(2), are treated as if they were citizens of the United States who lost citizenship.

Last name | First name | Middle name/initials
AKAGAWA | ROY | KOICHI
ALZOUMAN | SALEH | F.
ALZOUMAN | SARAH | S.
ANDERSON | ERIC | MOLTZAU
AU-YEUNG | RORCE
BALL | ROBERT | JAMES
BARKAS | DIANNE | JANET
BARKAS | ROY | HOWARD
BECK | MICHAEL | JOSEF
BELL | MARILYN | JAYNE
BENDER | SALLIE | JEAN
BENTLEY | JOHN | JOSEPH
BENTLEY | JOHN | J.
BETZ-VAIS | KLAUS
BI | JEFF | HUA
BI | WEI | LI
BLENKERS | TED
BODMER | ANDREA | ISABELLE
BRINGOLF | BRENDA | VICKI
BROOKES | IAN | KENNETH
BURKE | ANGELA | ROSEMARIE BROWN
CAMPBELL | DANIEL
CARLTON | NANCY
CELLIER-PESTALOZZI | URSULA | BETTINA
CHAN | DAISY | ANN
CHAN | JENNY | SIU CHUN
CHAN | JUSTIN | CHANG YI
CHANG | DEBBIE | P.
CHANG | JACINTA | YEUNG CHEONG
CHANG | MICHAEL | YIO-HOW
CHENG | NICOLAS | VINCENT
CHI | TELLY | TAI HSUAN
CHINOY | SAMIR | MUSTAPHA
CHIRATHIVAT | SOOKTA
CHIU | HARVEY
CHOI | ANTHONY | SHEUNGLI
CHOI | JASON | STUART
COHEN | LYNNE | GAIL
COLEMAN | CAROLE | CHRISTINE
COLEMAN | JAMES | RANDOLPH
CRONE | MORTICIA | AUTUMN
D'ANNOUX | MARIE-CHRISTINE | BAUDENET
DAVIRON | CHRISTOPHE | JEAN LINDSEY
DELISSER | PAMELA | LYN MCKEE
DINU | SURESCU
DUBS | CHRISTIAN | PAUL
DUPONT-WILNER | CATHERINE | ANN
EDESSARY | SWETHA
EREZ | DAPHNE | BARAK
FAZANDE | MARTINE
FAZANDE | MICHELE | MARIE
FIDANI | ROBERT | MICHAEL
FITZPATRICK | PAMELA | MARGARET
FLEISHER | ANDREW | ROY
FRESIA | BRADLEY | DUANE
GAUDINO | MIKA | ALDRICH
GODFREY | SEAN | MICHAEL
GOH | DENISE | SU-LI
GOLD | MARVIN | BENJAMIN
GONG | CHENGQIAN
GRENIER | MARTIN
GUT | PHILIP | CHRISTOPHER
HAERING | MARKUS | PETER
HEARREAN | ELDA | MARGUERITE
HEARREAN | ROY | EDWARD
HEMMINGS | MARY | SUE
HINDS | PHILLIP | BRADLEY
HONDEGHEM | KATHY | YVONNE
HSU | DONALD | P.
HU | RICHARD | YAO YUAN
HUDYMA | RONAYE
HWANG | HYONGTAEK
IYNEDJIAN | MARC | ALEXANDER
JAFFER | ADIL | KADER
JANISCH | CHERYL | LYNN
JANKOW | DANIELLE | ESTER
JEFFERSON | GEORGE | KENNETH
JONES | DENNIS | CHARLES
JONES | MARJEAN
JONES | STEPHANIE | ESTHER
JOYCE | MARY | THELMA
KANEB | STEPHANIE | MARGARET
KARAGEORGEVIC | ELIZABETH
KELLER | ELLIOT
KIM | DAVID
KIM | KEEHOWAN
KIM | MI | LIE
KIM | MYUNG | OK
KIM | YEONG | JUN
KONDRATIEV | MARIE | NADEJDA
KOO | DOROTHEA | GERALDINE
KRAMER | ANGELA | ELISABETH
KUEBLER | PHILIP | MARC
LAMBA | ROMNESH
LAU | KA | SHI BETSY
LAUTERBURG | BERNHARD | HANS
LAW | ALICE
LEE | ANDREW | HENRY
LEE | BONG
LEE | DENNIS | JEE-WOO DEAN
LEE | TONY | KWOK CHEN
LEE | VICTORIA | KATIE
LEE | WENDY | WAI SHUM
LEUNG | KING | ANSELM
LI | ADRIENNE | MAY
LI | JEREMY | YUEN LIM
LLAMANZARES | MARY | GRACE POE
LO | TINA | YI-CHUN
LOMAX | BRITANNIA | ROSE
LU | LUCY | KAI YEE
LUI | ANDREA
MAALOUF | RACHID | FAUZI
MAK | ARTHUR | TAK LEUNG
MAMON | GARY | ALLAN
MARK | SHARON | LANNE
MC KILLOP | RICHARD | WAYNE
MILLAR | JORDAN | MICHELLE
MOSKEY | MATTHEW | LOVE
NAHMANI | GABRIELLE | OLIVIA
NAM | CHRIS | MOONKEY
NG | EARNEST | FU FONG
NG | GLORIA | SOOK MUN
ODERMATT | RONALD | ELDON
O'SHEA | JOHN | JAMES
PATALE | AMEY | SUNIL
PENNER | MARTHA | LEE
PROCTOR | ROSEMARY | HELENA
PU | HAI
PUESCHEL | GUNTER | PAUL
ROHMEDER | MICHAEL | PETER
ROOS | RACHEL | NATALIA
ROPER III | FRANK | A.
RYU | KWANGHYUN | DANIEL
RYU | SEUNGWOON
SADIQ | NUZHAT
SANGER | MARTINE | HENRIETTE
SAU | MARK
SCHIESS | FRANCISCA | CAROL
SCHINDLER | ANNETTE
SHEVELL-BERGER | TRUDI | LYN
SIMETH | EVA | MARIA
SISMONDO | SOPHIA | M.
SKWAROK | ELEANOR | HELENE
SO | FIONA | WAI LUI
SOJER | CAMILLE | JOAN
ST CHARLES | CAROLE
STAR | GRACE | DANA WHITE
STATHAM | ANDREW | CRAIG
STATON | ALICE | MARY
STEIN | AMELIA | YUEN-YU
STEPHANSEN | JOYCE | CORINNE
STIEGELMAIR | HEIDI | YVETTE
STIEGELMAIR | TONJA | YVONNE
SU | JIN | CHIN
SU | XIAOBO | SARA SHAO
SUEN | SAMSON | C. L.
SY | KEVIN | NEIL
TAN | LAI | HING
THARALDSEN | PAUL | SVERRE SILJAN
TONKINSON | KENNETH | WILLIAM
TRUBOWITZ | EUGENE | BERNARD
TSAI | ALBERT | JIN-MIN
TSAI | MAGGIE | M H UENG
TSAI | RICHARD | MING-HSING
TSENG | EDWIN
TU | JAMES | XINJUN
VACCANI | STACY | BROWN OVERBEY
WANG | JEFF | DA-SHIN
WANG | ZHI
WARREN | DONALD
WEDEL | RUDOLF | KLAUS WALTER
WEISSHAAR | JASMIN | PATRICIA
WILEY | STEVE
WILLIS | SANDRA | ANN
WONG | ADRIAN | CHUN KIT
WONG | JASPER | CHINCHUNG
WONG | SZE | TCHUNG
WOO | TRACY
YANG | BESSIE | SHIH-FUN
YEN | RICHARD | TSAN KWONG
YEUNG | ANDREW
YEUNG | CARMEN
YI | HYON | SUN
YI | RAO
YUNG | ANDREA | STEPHANIE
ZELASKO | ANDREW | ARIE
ZELASKO | CHANA | MIRIAM
ZELUCK | GREGORY | MICHAEL
ZHU | MANTIAN | MYRON

Dated: July 11, 2012.
Ann V. Gaudelli,
Manager Team 103, Examinations Operations—Philadelphia Compliance Services.

[FR Doc. 2012-18309 Filed 7-26-12; 8:45 am]

BILLING CODE 4830-01-P